DEPARTMENT OF DEFENSE

Department of the Army

[Docket ID: USA-2016-HQ-0002]

Privacy Act of 1974; System of Records

AGENCY: Department of the Army, DoD.

ACTION: Notice to delete a System of Records.

SUMMARY: The Department of the Army proposes to delete a system of records, A0351 AMC, “Student/Faculty Records: AMC Schools Systems” in its inventory of record systems subject to the Privacy Act of 1974, as amended. This system was used to determine applicant eligibility, monitor individual's progress, maintain record of student/faculty achievements, and to provide bases for management assessment of curricula and faculty effectiveness and class standing.

Note: Previously on October 3, 2012 (77 FR 60412), the Department of the Army published a deletion notice but later discovered that the records had not been transferred as indicated; a reinstatement notice was published October 30, 2015 (80 FR 66881). Subsequently, it has been confirmed that the training records are now collected in the Army Training Requirements and Resources System and are covered under A0351 DAPE, Army Training Requirements and Resources System (ATRRS) (January 3, 2002, 67 FR 311) system of records notice.

DATES: Comments will be accepted on or before March 4, 2016. This proposed action will be effective on the day following the end of the comment period unless comments are received which result in a contrary determination.

ADDRESSES: You may submit comments, identified by docket number and title, by any of the following methods:

* Federal Rulemaking Portal: http://www.regulations.gov.

Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Rogers, Department of the Army, Privacy Office, U.S. Army Records Management and Declassification Agency, 7701 Telegraph Road, Casey Building, Suite 144, Alexandria, VA 22325-3905 or by calling (703) 428-6185.

SUPPLEMENTARY INFORMATION: The Department of the Army's notices for systems of records subject to the Privacy Act of 1974 (5 U.S.C. 552a), as amended, have been published in the Federal Register and are available from the address in FOR FURTHER INFORMATION CONTACT or from the Defense Privacy and Civil Liberties Division Web site at http://dpcld.defense.gov/. The Department of the Army proposes to delete one system of records notice from its inventory of record systems subject to the Privacy Act of 1974 (5 U.S.C. 552a), as amended. The proposed deletion is not within the purview of subsection (r) of the Privacy Act of 1974 (5 U.S.C. 552a), as amended, which requires the submission of a new or altered system report.

Dated: January 29, 2016.
Aaron Siegel,
Alternate OSD Federal Register Liaison Officer, Department of Defense.

A0351 AMC

Student/Faculty Records:

AMC Schools Systems (October 30, 2015, 80 FR 66881)

Reason:

The Army organization hosting these training records was relocated from Rock Island, Illinois to McAlester Army Ammunition Plant, Oklahoma in 1995, due to base realignment and new missions. These records are no longer collected from trainees at the ammunition training site. Training sites are no longer available and all ammunition training is done online through the Army Training Requirement and Resources System (ATRRS). Previous training records were transferred to the National Personnel Records Center, 9700 Page Boulevard, St. Louis, MO 63132-5200, with the soldiers and government civilian personnel records upon separation or retirement from the Army. Faculty and instructor qualification records were destroyed after five years in accordance with the disposition schedule. Training records are now collected in the Army Training Requirements and Resources System and are covered under A0351 DAPE, Army Training Requirements and Resources System (ATRRS) (January 3, 2002, 67 FR 311) system of records notice. Therefore, A0351 AMC, Student/Faculty Records: AMC Schools Systems can be deleted.

[FR Doc. 2016-02001 Filed 2-2-16; 8:45 am]

BILLING CODE 5001-06-P